DEPARTMENT OF COMMERCE

National Oceanic and Atmospheric Administration

RIN 0648-XG66

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting on April 15-17, 2008, to consider actions affecting New England fisheries in the exclusive economic zone (EEZ).

DATES: The meeting will be held on Tuesday, April 15 beginning at 10 a.m., and Wednesday and Thursday, April 16 and 17, beginning at 8:30 a.m.

ADDRESSES: The meeting will be held at the Providence Biltmore Hotel, 11 Dorrance Street, Providence, RI 02903; telephone: (401) 421-0700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, April 15, 2008

Following introductions and any announcements, the Council will receive a series of brief reports from the Council Chairman and Executive Director, the NOAA Fisheries Northeast Regional Administrator, Northeast Fisheries Science Center and Mid-Atlantic Fishery Management Council liaisons, NOAA General Counsel, NOAA Enforcement and representatives of the U.S. Coast Guard and the Atlantic States Marine Fisheries Commission. The Council also will review any experimental fishery permits requests published since the last Council meeting and possibly offer comments. Following a lunch break, the Council's Scientific and Statistical Committee will make recommendations concerning acceptable biological catch levels for winter and thorny skates while the Skate Committee will report on progress to develop winter and thorny skate rebuilding and management alternatives for inclusion in Amendment 3 to the Skate Fishery Management Plan (FMP). The committee will ask the Council to consider and approve precautionary annual catch limits, accountability measures and additional management measures to address recent changes in the skate fishery. The last agenda item of the day will involve an update by Virginia Institute of Marine Science staff on the institution's Northeast Area Monitoring and Assessment Program.

Wednesday, April 16, 2008

The Council will review and approve comment letters regarding the Minerals Management Service's Draft Environmental Impact Statement for the Cape Wind Energy Project and the Revised Framework for Developing a National System for Marine Protected Areas. A report from the Monkfish Committee will follow, during which the Council intends to take final action on Framework 6 to the Monkfish FMP. The Mid-Atlantic and New England Councils are considering eliminating backstop measures adopted in an earlier action that would reduce or eliminate days-at-sea in 2009 if landings exceeded catch targets in either or both of the two monkfish management areas during this current fishing year. The Enforcement Committee will review its recommendations concerning any changes to the running clock prohibition and review its initial discussion about sector monitoring and enforcement. During the afternoon session there will be a preliminary report on a Gulf of Maine Research Institute project to evaluate the monitoring, reporting and enforcement needs necessary to effectively track catch by sector vessels in New England. During the last agenda item, the Council's Groundfish Committee will provide an update on Amendment 16, including a review of annual catch limit and accountability measures, as well as effort control measures and sector policy issues.

Thursday, April 17, 2008

During the Herring Committee report the Council will review and approve a scoping document for Amendment 4 to the Atlantic Herring FMP and review the amendment timeline. The Northeast Fisheries Science Center will provide an update on trawl survey gear and calibration exercises regarding the FSVs Albatross and Bigelow. The Scallop Survey Advisory Panel will discuss new terms of reference and plans to calibrate the new survey dredge on the RV Sharp during the 2008 sea scallop survey. This report will be followed by a period for the public to comment on fisheries related issues that are not listed on the agenda. Any other outstanding business will be addressed before the meeting adjourns.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 25, 2008.
William D. Chappell,
Acting Director, Office of Sustainable Fisheries, National Marine Fisheries Service.

[FR Doc. E8-6440 Filed 3-27-08; 8:45 am]

BILLING CODE 3510-22-S